DEPARTMENT OF DEFENSE

Department of the Army; Corps of Engineers

Deauthorization of Water Resources Projects

AGENCY: Army Corps of Engineers, DoD.

ACTION: Notice of project deauthorizations.

SUMMARY: The Corps of Engineers is publishing the lists of water resources projects deauthorized under the provisions of § 1001(b)(2), Public Law 99-662, 33 U.S.C 579a(b)(2); projects removed from the deauthorization list due to obligations of funds, or continuation of authorization by law. In addition, the authorization of one water resource project expired, and two projects were specifically reauthorized by law.

FOR FURTHER INFORMATION CONTACT: Ms. Susan B. LeBleu, Headquarters, U.S. Army Corps of Engineers, Attention: CECW-BA, Washington, DC 20314-1000. Tel. (202) 761-4094.

SUPPLEMENTARY INFORMATION: The Water Resources Development Act of 1986, Public Law 99-662, 100 Stat. 4082-4273, as amended, provides for the automatic deauthorization of water resource projects and separable elements of projects.

Section 1001(b)(2), 33 U.S.C. 579a(b)(2), requires the Secretary of the Army to submit to the Congress a biennial list of unconstructed water resources projects and separable elements of projects for which no obligations of funds have been incurred for planning, design or construction during the prior seven full fiscal years. If funds are not obligated within thirty months from the date the list was submitted, the project/separable element is deauthorized. Notwithstanding these provisions, projects may be specifically deauthorized or reauthorized by law.

For purposes of the Water Resources Development Act of 1986, “separable element” is defined in section 103(f), Public Law 99-662, 33 U.S.C. 2213(f).

In accordance with section 1001(b)(2), the Assistant Secretary of the Army (Civil Works) submitted a list of 145 projects and separable elements to Congress on October 15, 1999 (1999 List). From this list, 127 projects/separable elements were deauthorized on April 16, 2002, 16 were removed due to obligations of funds, and the authorization of 2 were continued by section 350 of the Water Resources Development Act of 2000 (11 Dec 2000), Public Law 106-541, 114 Stat. 2632 and 2633.

Additionally, two projects were reauthorized by section 349 of the Water Resources Development Act of 2000, Public Law 106-541, 114 Stat. 2631 and 2632, subject to a Secretarial determination that no construction on any such project may be initiated until each project is technically sound, environmentally acceptable, and economically justified.

Authority: This notice is required by the Water Resources Development Act of 1986, Public Law 99-662, section 1001(c), 33 U.S.C. 579a(c), and the Water Resources Development Act of 1988, Public Law 100-676, section 52(d), 102 Stat. 4012, 4045.

Dated: April 18, 2003.
George S. Dunlop,
Deputy Secretary of the Army (Policy and Legislation).

District | Project name | Primary State | Purpose
Projects Deauthorized on 16 Apr 02 Under Sec. 1001(B)(2) WRDA 86, as Amended
LRB | LORAIN HARBOR | OH | N
LRB | OTTAWA (BLANCHARD RIVER) | OH | FC
LRC | LAKE MICHIGAN, EDGEWATER DRIVE, ROGERS PARK | IL | BE
LRE | MENOMINEE HARBOR | MI | N
LRE | MONROE HARBOR | MI | N
LRH | COAL RIVER BASIN | WV | FC
LRH | MUSKINGUM RIVER, KILLBUCK, OH | OH | FC
LRH | MUSKINGUM RIVER, MANSFIELD, OH | OH | FC
LRH | NELSONVILLE | OH | FC
LRH | NORTH CHILLICOTHE | OH | FC
LRL | BIG PINE LAKE (1965 ACT) | IN | FC
LRL | BIG WALNUT LAKE (1968 ACT) | IN | FC
LRL | BOONEVILLE LAKE (1938 & 1944 ACTS) | KY | FC
LRL | CAMPGROUND LAKE | KY | FC
LRL | GALLATIN COUNTY STREAMBANK EROSION, AREA 1, OHIO RIVER | IL | FC
LRL | ISLAND LEVEE (1946 ACT) | IN | FC
LRL | LAFAYETTE LAKE (1965 ACT) | IN | FC
LRL | MCALPINE LOCK & DAM, KY & IN, ALTERATION OF RAILROAD BRIDGE | KY | N
LRL | MINING CITY LAKE (1938 ACT) | KY | FC
LRL | RED RIVER LAKE (1962 ACT) | KY | FC
LRL | TAYLORSVILLE LAKE, FLOYD FORK BRIDGE REPLACEMENT | KY | FC
LRL | WEST POINT (1938 ACT) | KY | FC
LRP | ROWLESBURG LAKE | WV | FC
MVK | BAYOU BODCAU & TRIBUTARIES (1965 ACT) | LA | FC
MVK | PEARL RIVER, SHOCCOE DAM | MS | FC
MVK | PEARL RIVER, VICINITY OF JACKSON, MS | MS | FC
MVK | TENSAS BASIN BELOW RED RIVER AREA | LA | FC
MVK | TENSAS BASIN, TENSAS RIVER | LA | FC
MVK | YAZOO BASIN, ASCALMORE-TIPPO | MS | FC
MVK | YAZOO BASIN, ROCKY BAYOU | MS | FC
MVP | BOIS DE SIOUX & RED RIVER, WAHPETON & BRECKENRIDGE, ND | ND | FC
MVP | SHEYENNE RIVER, MAPLE RIVER RESERVOIR | ND | FC
MVP | TWIN VALLEY LAKE, WILD RICE RIVER | MN | FC
MVR | AMES LAKE | IA | FC
MVR | MOLINE | IL | FC
MVR | MUCK LEVEE, SALT CREEK | IL | FC
MVS | ELDRED AND SPANKEY DRAINAGE & LEVEE DISTRICT | IL | FC
MVS | HARTWELL DRAINAGE & LEVEE DISTRICT | IL | FC
MVS | HILLVIEW DRAINAGE & LEVEE DISTRICT | IL | FC
MVS | MAUVAISE TERRE DRAINAGE & LEVEE DISTRICT | IL | FC
MVS | MEREDOSIA LAKE & WILLOW CREEK DRAINAGE & LEVEE DISTRICT | IL | FC
MVS | MEREDOSIA, WILLOW CREEK AND COON RUN DRAINAGE & LEVEE DISTRICT | IL | FC
NAB | SUSQUEHANNA BASIN AT HARRISBURG | PA | FC
NAE | BRISTOL HARBOR | RI | N
NAE | FALL RIVER HARBOR (INACTIVE PORTIONS) | MA | N
NAE | NEW HAVEN HARBOR | CT | N
NAN | GOWANUS CREEK CHANNEL TERMINAL | NY | N
NAN | POPLAR BROOK, DEAL, NJ | NJ | FC
NAN | RAHWAY RIVER BASIN, ROBINSON BRANCH, AT RAHWAY, NJ | NJ | FC
NAP | BARNEGAT INLET TO LONGPORT, ABSECON ISLAND (1986 ACT) | NJ | BE
NAP | BARNEGAT INLET TO LONGPORT, BRIGANTINE ISLAND (1986 ACT) | NJ | BE
NAP | COLD SPRING INLET (NJIWW), MIDDLE THOROFARE (PED) | NJ | N
NAP | COLD SPRING INLET (NJIWW), OTTEN'S HARBOR (PED) | NJ | N
NAP | CORSON INLET AND LUDLAM BEACH (SEC. 201, 1965 ACT) (1986 ACT) | NJ | BE
NAP | LONG BEACH ISLAND | NJ | BE
NAP | SCHUYILKILL RIVER, MOUTH TO PENROSE, PHILADELPHIA | PA | N
NAP | TOWNSEND INLET & SEVEN MILE BEACH (SEC. 201, 1965 ACT) (1986 ACT) | NJ | BE
NWK | BRAYMER LAKE, SHOAL CREEK | MO | FC
NWK | BROOKFIELD LAKE, YELLOW CREEK | MO | FC
NWK | EAST MUDDY CREEK | MO | FC
NWK | HARRY S TRUMAN FISH & WILDLIFE MITIGATION | MO | MP
NWK | LOWER GRAND RIVER (1965 ACT) | MO | FC
NWK | MERCER LAKE (1965 ACT) | MO | FC
NWK | MISSOURI RIVER LEVEE SYSTEM, UNIT L-100 | MO | FC
NWK | MISSOURI RIVER LEVEE SYSTEM, UNIT L-294 | MO | FC
NWK | MISSOURI RIVER LEVEE SYSTEM, UNIT L-319-325 | MO | FC
NWK | MISSOURI RIVER LEVEE SYSTEM, UNIT L-330-345 | MO | FC
NWK | MISSOURI RIVER LEVEE SYSTEM, UNIT L-504-512-519 | MO | FC
NWK | MISSOURI RIVER LEVEE SYSTEM, UNIT R-328 | MO | FC
NWK | MISSOURI RIVER LEVEE SYSTEM, UNIT R-331 | MO | FC
NWK | PATTONSBURG LAKE (1965 ACT) | MO | FC
NWK | PLATTE RIVER & SMITHVILLE CHANNEL, LITTLE PLATTE RIVER | MO | FC
NWK | SMITHVILLE CHANNEL IMPROVEMENT, PLATTE & CLAY | MO | FC
NWK | TRENTON LAKE (1965 ACT) GRUNDY HARRISON DAVIESS | MO | FC
NWK | UPPER GRAND RIVER (1965 ACT) | MO | FC
NWO | ELM CREEK AT DECATUR, STREAMBANK EROSION | NE | FC
NWO | MOTT | ND | FC
NWP | BONNEVILLE POWER UNITS, OR & WA (1935 ACT) | OR | MP
NWP | STRUBE LAKE & COUGAR ADDITIONAL UNIT | OR | MP
NWS | BLAIR SITCUM WATERWAYS (1986 ACT) | WA | N
NWS | EAST WEST DUWAMISH WATERWAY, SEATTLE HARBOR, WA | WA | N
NWS | YAKIMA RIVER AT UNION GAP, WA | WA | FC
NWW | LITTLEWOOD RIVER, VICINITY GOODING & SHOSHONE, ID | ID | FC
NWW | McNARY SECOND POWERHOUSE, OR & WA | OR | MP
POH | AGANA RIVER, GUAM | GU | FC
POH | COCONUT POINT, NU'UULI, TUTUILA ISLAND, AMERICAN SAMOA | AS | BE
POH | HILO DEEP DRAFT HARBOR, HAWAII | HI | N
SAJ | CENTRAL & SOUTHERN FLORIDA PROJECT, MARTIN COUNTY BACKFLOW | FL | FC
SAJ | CENTRAL & SOUTHERN FLORIDA PROJECT, MARTIN COUNTY FLOOD CONTROL | FL | FC
SAM | HIGHWAY 39 BRIDGE, GAINESVILLE, AL | AL | FC
SAM | TALLAHALA CREEK LAKE (1968 ACT) | MS | FC
SAS | METRO ATLANTA AREA, LAKE LANIER REREGULATION DAM | GA | MP
SAS | SATILLA RIVER BASIN | GA | N
SAW | RANDLEMAN LAKE | NC | FC
SAW | REDDIES RIVER LAKE | NC | FC
SAW | ROARING RIVER LAKE | NC | FC
SPK | COTTONWOOD CREEK | CA | FC
SPK | GREAT SALT LAKE | UT | FC
SPK | LOWER SAN JOAQUIN RIVER & TRIBUTARIES | CA | FC
SPK | WILDCAT AND SAN PABLO CREEK, REACH 2 | CA | FC
SPL | AVALON BAY | CA | N
SPL | SAN LUIS OBISPO | CA | N
SPL | WHITEWATER FLOODWARNING | CA | FC
SPN | MONTEREY HARBOR | CA | N
SPN | NOYO RIVER AND HARBOR, CHANNEL EXTENSION | CA | N
SPN | SALT AND EEL RIVER | CA | FC
SWF | CHANNEL TO LIBERTY, TRINITY RIVER PROJECT | TX | N
SWF | LAKE WORTH, TARRANT COUNTY | TX | FC
SWF | SAN GABRIEL RIVER, SOUTH FORK LAKE | TX | FC
SWF | TARRANT COUNTY, TONY'S CREEK & MARINE CREEK | TX | FC
SWG | CARPENTERS BAYOU, HOUSTON (BUFFALO BAYOU) | TX | FC
SWG | GIWW, SABINE RIVER, HOUSTON SHIP CHANNEL (1962 ACT) | TX | N
SWG | PORT ARTHUR, HURRICANE-FLOOD PROTECTION, GULF OIL CO. RESERVOIR | TX | FC
SWG | TAYLORS BAYOU (PHASE III AND ARMOR ALLIGATOR) | TX | FC
SWL | BELL FOLEY LAKE (1938 ACT) | AR | FC
SWL | DARDANELLE LOCK & DAM, CANE CREEK BRIDGE REPLACEMENT | AR | N
SWL | LITTLE RIVER, HORATIO, AR | AR | FC
SWL | VILLAGE CREEK (1962 ACT) | AR | FC
SWT | ARCADIA LAKE (UNCOMPLETED RECREATION) | OK | FC
SWT | ARK-RED BASINS CHLORIDE CONTROL, ARK BASIN (1966, 1970, 1976 ACTS) | OK | FC
SWT | BIG & LITTLE SALLISAW CREEKS | OK | N
SWT | BOSWELL LAKE (1946 ACT) | OK | FC
SWT | CRUTCHO CREEK, OKLAHOMA COUNTY | OK | FC
SWT | DENISON DAM POWER UNIT 3 (1938 & 1957 ACTS) | OK | MP
SWT | DOUGLASS LAKE | KS | FC
SWT | LUKFATA LAKE (1958 ACT) | OK | FC
SWT | UPPER LITTLE ARKANSAS RIVER WATERSHED | KS | FC
Total: 127
Projects/Separated Elements Removed From Deauthorization List Due to Obligations of Funds for Planning, Design or Construction
LRC | ILLINOIS BEACH STATE PARK | IL | BE
LRH | MASSILLON, OH, BRIDGE | OH | FC
MVR | DAVENPORT | IA | FC
NAN | ARDSLEY | NY | FC
NWW | JACKSON HOLE, SNAKE RIVER, WY | WY | FC
POH | WAIKIKI BEACH, OAHU | HI | BE
SAJ | PONCE HARBOR | PR | N
SAM | MONTGOMERY TO GADSDEN, AL (1945 ACT) | AL | N
SAS | HARTWELL LAKE, 5TH UNIT | GA | MP
SAS | HARTWELL LAKE, UPPER & LOWER DIVERSION | SC | FC
SPN | LARKSPUR FERRY CHANNEL | CA | N
SWF | MILLICAN LAKE (1968 ACT) | TX | FC
SWG | LITTLE WHITE OAK BAYOU, HOUSTON (BUFFALO BAYOU) | TX | FC
SWG | UPPER WHITE OAK BAYOU & TRIBUTARIES, VICINITY OF HOUSTON, TX | TX | FC
SWL | WHITE RIVER FISH HATCHERY (1976 ACT) | AR | MP
SWT | FORT GIBSON POWER UNITS 5&6 | OK | MP
Total: 16
Projects Reauthorized on 11 Dec 2000 under Public Law 106-541, 114 Stat, 2572, Section 349
SWG | CEDAR BAYOU | TX | N
NAE | NARRAGUAGUS RIVER, MILBRIDGE | ME | N
Total: 2
Projects shall remain authorized to be carried out the Secretary (7-Yr. Continuation of Project Authorizations, Section 350(a) WRDA 2000)
SPK | SACRAMENTO RIVER, CHICO LANDING TO RED BLUFF, CA | CA | FC
SPK | SACRAMENTO RIVER, MAJOR & MINOR TRIBUTARIES | CA | FC
Total: 2
Project Deauthorization on 13 October 2001 Due to Statutory “Sunset Provision”, Section 52 of the WRDA 1988, Public Law 100-676
LRD | CROSS VILLAGE HARBOR | MI | N
Total: 1
Key to Abbreviations
MVD MISSISSIPPI VALLEY DIVISION.
MVM MEMPHIS DISTRICT.
MVN NEW ORLEANS DISTRICT.
MVS ST. LOUIS DISTRICT.
MVK VICKSBURG DISTRICT.
MVR ROCK ISLAND DISTRICT.
MVP ST. PAUL DISTRICT.
NAD NORTH ATLANTIC DIVISION.
NAB BALTIMORE DISTRICT.
NAN NEW YORK DISTRICT.
NAO NORFOLK DISTRICT.
NAP PHILADELPHIA DISTRICT.
NAE NEW ENGLAND DISTRICT.
NWD NORTHWESTERN DIVISION.
NWP PORTLAND DISTRICT.
NWS SEATTLE DISTRICT.
NWW WALLA WALLA DISTRICT
NWK KANSAS CITY DISTRICT.
NWO OMAHA DISTRICT.
LRD GREAT LAKES & OHIO RIVER DIVISION.
LRH HUNTINGTON DISTRICT.
LRL LOUISVILLE DISTRICT.
LRN NASHVILLE DISTRICT.
LRP PITTSBURGH DISTRICT.
LRB BUFFALO DISTRICT.
LRC CHICAGO DISTRICT.
LRE DETROIT DISTRICT.
POD PACIFIC OCEAN DIVISION.
POA ALASKA DISTRICT.
POH HONOLULU DISTRICT.
SAD SOUTH ATLANTIC DIVISION.
SAC CHARLESTON DISTRICT.
SAJ JACKSONVILLE DISTRICT.
SAM MOBILE DISTRICT.
SAS SAVANNAH DISTRICT.
SAW WILMINGTON DISTRICT.
SPD SOUTH PACIFIC DIVISION.
SPL LOS ANGELES DISTRICT.
SPK SACRAMENTO DISTRICT.
SPN SAN FRANCISCO DISTRICT.
SPA ALBUQUERQUE DISTRICT.
SWD SOUTHWESTERN DIVISION.
SWF FORT WORTH DISTRICT.
SWG GALVESTON DISTRICT.
SWL LITTLE ROCK DISTRICT.
SWT TULSA DISTRICT.
BE Beach Erosion Control.
FC Flood Control.
MP Multiple Purpose Power.
N Navigation.
GIWW Gulf Intracoastal Waterway.
NJIWW New Jersey Intracoastal Waterway.

[FR Doc. 03-16103 Filed 6-25-03; 8:45 am]

BILLING CODE 3710-92-P